DEPARTMENT OF COMMERCE

National Oceanic and Atmospheric Administration

[I.D. 080404A]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow commercial fishing vessels to conduct fishing operations that are otherwise restricted by the regulations governing the fisheries of the Northeastern United States. The EFP would allow for exemptions from the FMP as follows: the Days-at-Sea (DAS) effort-control program; the minimum mesh size for the Georges Bank (GB) regulated mesh area; the Nantucket Lightship Habitat Closure Area; the GB Seasonal Closure Area; and minimum fish size restrictions for the temporary retention of undersized fish for data collection purposes.

Regulations under the Magnuson-Stevens Fishery Conservation and Management Act require publication of this notification to provide interested parties the opportunity to comment on applications for proposed EFPs.

DATES: Comments on this document must be received on or before August 24, 2004.

ADDRESSES: Comments on this notice may be submitted by e-mail to: DA602@noaa.gov. Include in the subject line the following document identifier: “Comments on CCCHFA Cod Life History Study.” Written comments should be sent to Patricia A. Kurkul, Regional Administrator, NMFS, Northeast Regional Office, 1 Blackburn Drive, Gloucester, MA 01930. Mark the outside of the envelope “Comments on CCCHFA Cod Life History Study.” Comments may also be faxed to (978) 281-9135.

FOR FURTHER INFORMATION CONTACT: Brian Hooker, Fishery Management Specialist, phone 978-281-9220.

SUPPLEMENTARY INFORMATION: The Cape Cod Commercial Hook Fishermen's Association (CCCHFA) submitted an initial application for an EFP on June 7, 2004. The application was complete on July 14, 2004. The experimental fishing application requests authorization for activities to determine the reproductive life history of cod on the western portion of GB by sampling and mapping the distribution and transport of larval and juvenile cod. This project has three distinct phases, two of which would be covered under this EFP.

In the first phase, fishermen would sample adult cod on the western portion of GB and Great South Channel areas from September to December to assess reproductive status and approximate spawning time for cod. Fin clips of adult cod would be taken for genetic analysis. This phase would involve the use of rod and reel to target up to 750 ripe and running cod on no more than 25 1-day sampling trips. Researchers hope to sample 15 ripe and running cod per site per trip (two sites would be identified for each trip). Any juvenile cod or those that are at or near spawning time (e.g., ripe and/or running) would be returned to the sea immediately. All other cod caught during the sampling trip that meet the minimum size requirements would be allowed to be landed to defray a portion of the costs associated with the research. This phase of the project would only involve fishermen enrolled in the Cape Cod Hook Sector Plan (Sector). As such, cod landed in this phase would be counted against the Sector's total allowable catch (TAC), as specified in the GB Cod Hook Sector Operations Plan and Agreement (Sector Agreement). All vessels permitted under this phase of the EFP would be required to abide by the Sector Agreement, with the exception of the following: vessels permitted under this phase of the EFP would be exempt from using Category A DAS. The reason for this exemption is that only cod would be permitted to be landed on these EFP trips; no other fish would be permitted to be landed. Because the cod landings would be counted against the Sector quota, the DAS effort-control measures are not necessary. If non-quota species were permitted to be landed, which they are not, then there would be a need to have the participating vessels fish under the DAS program. As such, the total fishing mortality associated with this portion of the EFP is fully accounted for under the provisions of the FMP. Additionally, bycatch mortality under this EFP would be minimized as there is no incentive to catch anything other than cod. Participating fishermen would be expected to make every effort to avoid concentrations of non-target species.

The second phase of this project does not require any regulatory exemptions and is not part of this EFP.

Phase three of this project would begin once the larvae have begun to mature into juvenile cod. This phase of the sampling project would utilize an otter trawl rigged with small-mesh intended to catch “fingerling” juvenile cod on up to 16 fishing days. Tows would be short in duration (10-15 minutes) at speeds between 4-10 knots. Fin clips, for genetic analysis, would be taken from the juvenile cod. The researchers plan to obtain 20 samples from two different sites on each fishing day, for a total of 380 samples. No fish would be permitted to be landed for sale under this portion of the EFP. Exemptions from DAS, minimum mesh size, the GB Seasonal Closure Area, and the Nantucket Lightship Habitat Closure Area (not including the Nantucket Lightship Groundfish Closure Area) are requested. Because these are short tows seeking a small sample size of juvenile fish, it is anticipated that these exemptions would have no more than a negligible impact on the cod resource.

The entire research study, all three phases, would occur between September 1, 2004, and June 30, 2005, in 30-minute squares 114, 99, 98, 82, and 81.

This EFP would allow for exemptions from the FMP as follows: the DAS notification requirements specified at § 648.10; the effort-control program (DAS) as specified at § 648.82(a); the minimum mesh size for the GB Regulated Mesh Area at § 648.80(a)(4); the Nantucket Lightship Habitat Closure Area specified at § 648.81(h)(1)(vi); the GB Seasonal Closure Area specified at § 648.81(g); and minimum fish size restrictions specified at § 648.83(a) for the temporary retention of undersized fish for data collection purposes.

Authority: 16 U.S.C. 1801 et seq.

Dated: August 4, 2004.
Alan D. Risenhoover,
Acting Director, Office of Sustainable Fisheries, National Marine Fisheries Service.

[FR Doc. E4-1737 Filed 8-6-04; 8:45 am]

BILLING CODE 3510-22-S